FEDERAL ELECTION COMMISSION

Sunshine Act Meetings

AGENCY: Federal Election Commission

DATE AND TIME: Thursday, December 11, 2014 at 10:00 a.m.

PLACE: 999 E Street NW., Washington, DC (Ninth Floor)

STATUS: This meeting will be open to the public.

ITEMS TO BE DISCUSSED:

Correction and Approval of Minutes for November 6, 2014

Draft Advisory Opinion 2014-18: Rayonier Inc. and Rayonier Advanced Materials Inc.

Petition to Amend 11 CFR 100.4—Draft Notice of Disposition

2014 Legislative Recommendations

Revised Enforcement Manual

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shelley E. Garr,
Deputy Secretary of the Commission.

[FR Doc. 2014-28937 Filed 12-5-14; 4:15 pm]

BILLING CODE 6715-01-P